FEDERAL COMMUNICATIONS COMMISSION

47 CFR Parts 51 and 69

[WC Docket Nos. 10-90, 14-58; CC Docket No. 01-92; FCC 16-33]

Rate-of-Return Reform

AGENCY: Federal Communications Commission.

ACTION: Final rule; announcement of effective date.

SUMMARY: In this document, the Commission announces that the Office of Management and Budget (OMB) has approved, for a period of three years, the information collection requirements associated with the Commission's Rate-of Return Reform Order. The reforms adopted in this Order require rate-of-return LECs to make tariff filings with the necessary tariff materials outside of the normal tariff filing period. This document is consistent with the Order, which stated that the Commission would publish a document in the Federal Register announcing the effective date of the rules.

DATES: The amendments to 47 CFR 51.917(f)(4), 69.4(k), 69.132, 69.311, and 69.416, published at 81 FR 24281, April 25, 2016, are effective December 4, 2017.

FOR FURTHER INFORMATION CONTACT: Amy Goodman, Pricing Policy Division, Wireline Competition Bureau, at (202) 418-1549, or email: amy.goodman@fcc.gov.

SUPPLEMENTARY INFORMATION: This document announces that, on September 20, 2016, OMB approved, for a period of three years, the information collection requirements relating to §§ 51.917(f)(4), 69.4(k), 69.132, 69.311, and 69.416 of the Commission's rules as a revision to OMB Control Number 3060-0298 (Part 61, Tariffs (Other than the Tariff Review Plan)). Also on September 20, 2016, OMB approved, for a period of three years, the information requirements relating to §§ 51.917(f)(4), 69.4(k), 69.132, 69.311, and 69.416 of the Commission's rules as a revision to 3060-0400 (Part 61, Tariff Review Plan (TRP)). The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-0400, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on September 20, 2016, for the information collection requirements contained in §§ 51.917(f)(4), 69.4(k), 69.132, 69.311, and 69.416 of the Commission's rules. Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0298 and 3060-0400.

The foregoing notice is required by the Paperwork Reduction Act of 1995, Public Law 104-13, October 1, 1995, and 44 U.S.C. 3507.

The total annual reporting burdens and costs for the respondents are as follows:

OMB Control Number: 3060-0298.

OMB Approval Date: September 20, 2016.

OMB Expiration Date: September 30, 2019.

Title: Part 61, Tariffs (Other than Tariff Review Plan) (TRP).

Form Number: N/A.

Respondents: Business or other for-profit entities.

Number of Respondents and Responses: 2,840 respondents; 4,277 responses.

Estimated Time per Response: 30 hours-50 hours.

Frequency of Response: On occasion, annual, biennial, and one-time reporting requirements.

Obligation to Respond: Required to obtain or retain benefits. Statutory authority for this information collection is contained in 47 U.S.C. 151-155, 201-203, 208, 251-271, 403, 502, and 503 of the Communications Act of 1934, as amended.

Total Annual Burden: 156,080 hours.

Total Annual Cost: $1,307,670.

Privacy Impact Assessment: No impact(s).

Nature and Extent of Confidentiality: Respondents are not being asked to submit confidential information to the Commission. If the Commission requests respondents to submit information which respondents believe is confidential, respondents may request confidential treatment of such information under 47 CFR 0.459 of the Commission's rules.

Needs and Uses: On March 23, 2016 the Commission released the Rate of Return Order, FCC 16-33, which reformed universal service for rate-of-return local exchange carriers (LECs). These reforms require approximately 95 rate-of-return LECs to make one-time tariff filings and NECA to make two tariff filings with the necessary support materials outside the normal tariff filing period.

Part 61 of the Commission's rules, 47 CFR part 61, prescribes the framework for the initial establishment of and subsequent revisions to tariffs. The information collected through the carriers' tariffs and supporting documentation is used by the Commission and state commissions to determine whether the services are offered in a just and reasonable manner.

OMB Control Number: 3060-0400.

OMB Approval Date: September 20, 2016.

OMB Expiration Date: September 30, 2019.

Title: Part 61, Tariff Review Plan (TRP).

Form Number: N/A.

Respondents: Business or other for-profit entities.

Number of Respondents and Responses: 2,840 respondents; 5,437 responses.

Estimated Time per Response: 0.5 hours-53 hours.

Frequency of Response: On occasion, annual, biennial, and one-time reporting requirements.

Obligation to Respond: Required to obtain or retain benefits. Statutory authority for this information collection is contained in 47 U.S.C. 201, 202, 203, and 251(b)(5) of the Communications Act of 1934, as amended.

Total Annual Burden: 66,000 hours.

Total Annual Cost: No cost.

Privacy Impact Assessment: No impact(s).

Nature and Extent of Confidentiality: Respondents are not being asked to submit confidential information to the Commission. If the Commission requests respondents to submit information which respondents believe is confidential, respondents may request confidential treatment of such information under 47 CFR 0.459 of the Commission's rules.

Needs and Uses: On March 23, 2016 the Commission released the Rate of Return Order, FCC 16-33, which reformed universal service for rate-of-return local exchange carriers (LECs). These reforms require rate-of-return LECs to make tariff filings with the necessary support materials outside the normal tariff filing period.

Sections 201, 202, and 203 of the Communications Act of 1934, as amended, require common carriers to establish just and reasonable charges, practices, and regulations for their interstate telecommunications services. For services that are still covered under section 203, tariff schedules containing charges, rates, rules, and regulations must be filed with the Commission. Part 61 of the Commission's rules, 47 CFR part 61, prescribes the framework for the establishment of and subsequent revisions to tariffs. Certain LECs are required to submit a biennial or annual Tariff Review Plan (TRP) in partial fulfillment of cost support material required by part 61. The Commission developed the TRP to minimize reporting burdens on reporting incumbent local exchange carriers (ILECs). TRPs set forth the summary material ILECs file to support revisions to their interstate access service tariffs. For those services still requiring cost support, TRPs assist the Commission in determining whether ILEC access charges are just and reasonable as required under the Act.

Federal Communications Commission.
Katura Jackson,
Federal Register Liaison Officer, Office of the Secretary.

[FR Doc. 2017-25949 Filed 12-1-17; 8:45 am]

BILLING CODE 6712-01-P